DEPARTMENT OF TRANSPORTATION

Maritime Administration

[Docket Number MARAD-2025-0004]

Request for U.S. Industry Input Regarding the Icebreaker Collaboration Effort (ICE) Pact

AGENCY: Maritime Administration (MARAD), Department of Transportation (DOT).

ACTION: Notice; request for information (RFI).

SUMMARY: This notice requests information from the public to assist MARAD in determining which shipyards in the United States have the capacity, capability, and readiness to construct ships capable of operating in ice conditions and determining what factors would be necessary to further develop icebreaker ships in the United States. The objectives of the request are to increase the capacity of the United States to design, produce, and maintain polar icebreakers through trilateral collaboration while supporting each country's shipbuilding industrial base.

DATES: Comments must be received on or before April 9, 2025.

ADDRESSES: To ensure that you do not duplicate your docket submissions, please submit all comments by only one of the following ways:

Federal eRulemaking Portal: Go to https://www.regulations.gov and follow the online instructions for submitting comments.

Mail: Docket Management Facility, U.S. Department of Transportation, 1200 New Jersey Ave. SE, W12-140, Washington, DC 20590-0001.

Hand Delivery: W12-140 of the Department of Transportation, 1200 New Jersey Avenue SE, Washington, DC 20590 between 9:00 a.m. and 5:00 p.m. E.T., Monday through Friday, except Federal Holidays. The telephone number is 202-366-9329.

Instructions: You must include the agency name and the docket number, MARAD-2025-0004, at the beginning of your comments. All comments received will be posted without change to https://www.regulations.gov, including any personal information provided.

Note: Input submitted online via www.regulations.gov is not immediately posted to the site. It may take several business days before your submission is posted.

Privacy Act: Anyone can search the electronic form of all comments received into any of our dockets by the name of the individual submitting the comment (or signing the comment, if submitted on behalf of an association, business, labor union, etc.). For information on DOT's compliance with the Privacy Act, please visit https://www.transportation.gov/privacy.

FOR FURTHER INFORMATION CONTACT: Mr. David Heller, 202-366-1850, or via email at david.heller@dot.gov; Associate Administrator for Business and Finance Development, Associate Administrator for Business and Finance Development, Room W21-318, MARAD, 1200 New Jersey Avenue SE, Washington, DC 20590.

SUPPLEMENTARY INFORMATION:

Electronic Access

A copy of this Notice, all comments received on this Notice, and all background material may be viewed online at https://www.regulations.gov using the docket number listed above as a search term. Electronic retrieval assistance and guidance are available at https://www.regulations.gov. An electronic copy of this document also may be downloaded from the Office of the Federal Register's website at https://www.FederalRegister.gov and the Government Publishing Office's database at www.GovInfo.gov.

Confidential Business Information

Submissions containing CBI should be sent directly to Mr. David Heller via email to david.heller@dot.gov, or by mail to David Heller, Associate Administrator for Business and Finance Development, Room W21-318, MARAD, 1200 New Jersey Avenue SE, Washington, DC 20590. Any comment submissions, including those with CBI, sent via the Federal eRulemaking Portal will be placed on the public docket without change.

Confidential Business Information (CBI) is commercial or financial information that is both customarily and actually treated as private by its owner. Under the Freedom of Information Act (FOIA) (5 U.S.C. 552), CBI is exempt from public disclosure.

If your comments contain CBI that is customarily treated as private, that you actually treat as private, and that is relevant or responsive to this RFI, it is important that you clearly designate the submitted comments as CBI. You should seek to protect any CBI by taking the following steps: (1) Send CBI information directly to the person named in the For Further Information Contact section above; (2) Mark each page of the original document submission containing CBI as “Confidential”; (3) along with the original document, provide a second copy with the CBI redacted or deleted; and (4) explain why the information you are submitting meetings the requirements for CBI described above. Unless you are notified otherwise, MARAD will treat such marked submissions as confidential under the FOIA, and they will not be placed in the public docket for this RFI.

Background

On July 11, 2024, the leaders of the United States, Canada, and Finland announced their intent to establish the Icebreaker Collaboration Effort, or ICE Pact. This trilateral framework aims to enhance collaboration on the production of polar icebreakers and related capabilities, fostering stronger security and economic ties among the three nations. The initiative focuses on bolstering the signatory nations' shipbuilding industries and industrial capacity, through information exchange and workforce development in the context of polar icebreaker construction and other polar capabilities.

ICE Pact comprises three key components: enhanced information sharing and technical exchange between the three countries, collaboration on workforce development, and an invitation for allies and partners to purchase icebreakers built in U.S., Canadian, or Finnish shipyards. Recognizing the capital-intensive nature of shipbuilding, the framework emphasizes the importance of long-term, multi-ship orderbooks to ensure the viability of shipyards. By leveraging their shipbuilding capacities, the United States, Canada, and Finland aim to not only meet their own needs but also support partner nations in accessing polar regions at an affordable cost.

To implement this framework, officials representing the Governments of the United States, Canada, and Finland signed an implementation plan on November 13, 2024, outlining the framework for collaboration.

The framework also underscores the necessity for enhanced polar capabilities. This is particularly important to the Polar Security Cutter (PSC) Program which seeks to build a new class of U.S. heavy icebreakers. These vessels will serve as vital national security assets, ensuring access to polar regions and fulfilling crucial missions such as defense readiness, all while operating alongside the icebreakers of allied nations in the extreme environmental conditions of high latitudes.

Request for Information

MARAD requests relevant comments, feedback, and information from U.S. shipyards or other stakeholders involved or interested in the design, manufacture, export, and research and development of polar icebreaker and related capabilities.

The following information is requested; please provide as much detail as possible:

(1) Do U.S. shipyards have icebreaker design and construction experience, current or future personnel, access to advanced technologies, and offer maintenance and lifecycle support?

(2) Do U.S. shipyards have dry dock and berthing capacity to support polar icebreakers?

(3) Do U.S. shipyards have cold-weather testing facilities?

(4) Do U.S. shipyards have supply chains that can adapt and recover from supply chain disruptions?

(5) Do U.S. shipyards have established training programs, capacity for international training and exchange, and the ability to adhere to compliance standards?

(6) Are U.S. shipyards willing to demonstrate a commitment to information sharing, to undertake technical advisor exchanges, and engage in R&D participation?

(7) Is there sufficient labor availability to U.S. shipyards? If not, what are the barriers to obtaining that labor and growing that workforce?

(8) What steps can be taken to make the shipbuilding industry more attractive to workers?

(9) Provide specific recommendations for how U.S. shipyards can work within the ICE Pact framework to:

a. Co-develop best practices using existing ice class from recognized organizations and classification societies.

b. Collaborate on new and existing polar icebreakers, as well as other capability designs that emphasize commonality among companies, countries, or both, to encourage economies of scale in the construction, repair, and interoperability of future polar icebreakers, and other capabilities;

c. Establish guiding principles for production line sequencing and supply chain management;

d. Reduce production costs of polar icebreakers, as well as other capabilities; and

e. Enhance operational capabilities and accelerate their delivery, consistent with relevant laws in their respective countries.

(10) How can U.S. industry leverage research, development, and innovation to support the design and implementation of future activities in the Arctic and polar regions? Provide specific recommendations for how U.S. industry can work within the ICE Pact framework to:

a. Develop knowledge and collaborate on ideas that benefit the polar regions while maximizing the effective and efficient use of resources and reducing duplication of industrial effort;

b. Identify, design, and implement projects that promote innovation, sustainability, and mutual benefit; and

c. Expand the expertise for ship design and outfitting for operations in polar regions and under the Polar Code for non-military applications.

(11) How can MARAD support U.S. industry in achieving the recommendations submitted in response to this request for information?

(12) Recognizing that ICE Pact is a multilateral arrangement between governments, what incentives can be employed under the auspices of ICE Pact to encourage U.S. shipyards to exchange and collaborate on the design, R&D, and construction of icebreakers?

(13) What, if any, policy, regulatory, or statutory impediments currently exist, to implementing your recommendations in response to the questions above or lessons learned from other multilateral industrial base initiatives?

(14) What other ideas, thoughts, concerns, or recommendations should MARAD consider in further developing this initiative?

(Authority: 46 U.S.C. Chapter 537; 49 CFR 1.93(a), 46 CFR part 298)

By order of the Executive Director in lieu of the Maritime Administrator.
T. Mitchell Hudson, Jr.,
Secretary, Maritime Administration.

[FR Doc. 2025-03797 Filed 3-7-25; 8:45 am]

BILLING CODE 4910-81-P